DEPARTMENT OF THE TREASURY

Office of Thrift Supervision

Universal Federal Savings Bank, Chicago, IL; Notice of Appointment of Receiver

Notice is hereby given that, pursuant to the authority contained in § 5(d)(2) of the Home Owners' Loan Act, the Office of Thrift Supervision has duly appointed the Federal Deposit Insurance Corporation as sole Receiver for Universal Federal Savings Bank, Chicago, Illinois (OTS No. 03327), on June 27, 2002.

Dated: June 28, 2002.
By the Office of Thrift Supervision.
Nadine Y. Washington,
Corporate Secretary.

[FR Doc. 02-16728 Filed 7-2-02; 8:45 am]

BILLING CODE 6720-01-M